DEPARTMENT OF TRANSPORTATION

Federal Railroad Administration

[Docket No. FRA 2011-0001-N-17]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than January 13, 2012.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0505.” Alternatively, comments may be transmitted via facsimile to (202) 493-6216 or (202) 493-6479, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 21, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Inspection and Maintenance Standards for Steam Locomotives.

OMB Control Number: 2130-0505.

Abstract: The Locomotive Boiler Inspection Act (LBIA) of 1911 required each railroad subject to the Act to file copies of its rules and instructions for the inspection of locomotives. The original LBIA was expanded to cover the entire steam locomotive and tender and all its parts and appurtenances. This Act then requires carriers to make inspections and to repair defects to ensure the safe operation of steam locomotives. The collection of information is used by tourist or historic railroads and by locomotive owners/operators to provide a record for each day a steam locomotive is placed in service, as well as a record that the required steam locomotive inspections are completed. The collection of information is also used by FRA Federal inspectors to verify that necessary safety inspections and tests have been completed and to ensure that steam locomotives are indeed “safe and suitable” for service and are properly operated and maintained.

Form Number(s): FRA-1, FRA-2, FRA-3, FRA-4, FRA-5, FRA-19.

Affected Public: Businesses.

Respondent Universe: 82 Steam Locomotive Owners/Operators.

Frequency of Submission: On occasion; annually.

Reporting Burden

CFR section | Respondent universe | Total annual responses | Average time per response | Total annual burden hours
230.6—Waivers | 82 owners | 2 waiver letters | 1 hour | 2
230.12—Conditions for movement—Non-Complying Locomotives | 82 owners/operators | 10 tags | 6 minutes | 1
230.14-31 Service Day Inspection | 82 owners/operators | 100 reports | 20 minutes | 33
—Notifications | 82 owners/operators | 2 notifications | 5 minutes | .17
230.15—92 Service Day Inspection | 82 owners/operators | 100 reports | 20 minutes | 33
230.16—Annual Inspection | 82 owners/operators | 100 reports | 30 minutes | 50
—Notifications | 82 owners/operators | 100 notifications | 5 minutes | 8
230.17-1,472 Service Day Inspection | 82 owners/operators | 10 forms | 30 minutes | 5
230.12—Conditions for movement—Non-Complying Locomotives | 82 owners/operators | 10 tags | 6 minutes | 1
230.20—Alteration Reports for Steam Locomotive Boilers | 82 owners/operators | 5 reports | 1 hour | 5
230.21—Steam Locomotive Number Change | 82 owners/operators | 1 document | 2 minutes | .033
230.33—Welded Repairs/Alterations | 82 owners/operators | 5 letters | 10 minutes | 1
—Written Request to FRA for Approval—Unstayed Surfaces | 82 owners/operators | 5 letters | 10 minutes | 1
230.34—Riveted Repairs/Alterations | 82 owners/operators | 10 requests | 5 minutes | 1
230.49—Setting of Safety Relief Valves | 82 owners/operators | 16 tags | 2 minutes | 1
230.96—Main, Side, and Valve Motion Rods | 82 owners/operators | 1 letter | 10 minutes | .17
RECORD KEEPING REQUIREMENTS
230.13—Daily Inspection Reports | 82 owners/operators | 3,650 reports | 2 minutes | 122
230.17—1,472 Service Day Inspection | 82 owners/operators | 10 reports | 15 minutes | 3
230.18—Service Day Report | 82 owners/operators | 150 reports | 15 minutes | 38
230.19—Posting of Copy | 82 owners/operators | 300 forms | 1 minute | 5
230.41—Flexible Stay Bolts with Caps | 82 owners/operators | 10 entries | 1 minute | .17
230.46—Badge Plates | 82 owners/operators | 3 reports | 30 minutes | 2
230.47—Boiler Number | 82 owners/operators | 1 stamping | 15 minutes | .25
230.75—Stenciling Dates of Tests and Cleaning | 82 owners/operators | 50 tests | 15 minute | 1
230.98—Driving, Trailing, and Engine Truck Axles—Journal Diameter Stamped | 82 owners/operators | 1 stamp | 15 minutes | .25
230.116—Oil Tanks | 82 owners/operators | 30 signs | 1 minute | 1

Total Responses: 4,672.

Estimated Total Annual Burden: 314 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on November 7, 2011.
Kimberly Coronel,
Director, Office of Financial Management, Federal Railroad Administration.

[FR Doc. 2011-29273 Filed 11-10-11; 8:45 am]

BILLING CODE 4910-06-P